GENERAL SERVICES ADMINISTRATION

Federal Travel Regulation (FTR); Temporary Duty and Relocation Requirements; Notice of GSA Bulletin FTR 09-06

AGENCY: Office of Governmentwide Policy, General Services Administration (GSA).

ACTION: Notice of a bulletin.

SUMMARY: The General Services Administration (GSA), in conjunction with the Presidential declaration of disaster areas in certain locations in the state of North Dakota due to the recent severe storms and flooding, has issued GSA Bulletin FTR 09-06. This bulletin waives certain temporary duty and relocation requirements outlined in the Federal Travel Regulation (FTR). GSA Bulletin FTR 09-06 may be found at http://www.gsa.gov/federaltravelregulation.

DATES: The provisions in this Bulletin are effective for a period of one year from the date of the Presidential Emergency Declaration affecting the 34 referenced counties and 2 Indian Reservations in the state of North Dakota (March 24, 2009), unless extended or rescinded by this office.

FOR FURTHER INFORMATION CONTACT: Mr. Cy Greenidge, Office of Governmentwide Policy (M), Office of Travel, Transportation, and Asset Management (MT), General Services Administration at (202) 219-2349 or via e-mail at cy.greenidge@gsa.gov. Please cite FTR Bulletin 09-06.

Dated: April 6, 2009.
Russell H. Pentz,
Assistant Deputy Associate Administrator, Office of Travel, Transportation, and Asset Management.

[FR Doc. E9-8177 Filed 4-9-09; 8:45 am]

BILLING CODE 6820-14-P